Title 3—

The President

Proclamation 10965 of August 25, 2025

Fourth Anniversary of the Attack at Abbey Gate, 2025

By the President of the United States of America

A Proclamation

On one of the darkest days in our Nation's history, 4 years ago, the gates of hell sprung open when an evil Jihadi terrorist carried out a suicide bombing in Kabul, Afghanistan—killing 13 heroes of our United States Armed Forces and shattering the hearts of Americans and our allies. As our Nation remembers this atrocious attack, we honor the memory of every brave warrior who made the ultimate sacrifice for our country. We join in grief with the families who senselessly lost a loved one, and we renew our solemn pledge to our 13 fallen patriots—we will never forget you; we will never forsake you; and your memory will live on forever.

On July 2, 2021, as an empowered Taliban was in the midst of waging a civil war in Afghanistan, President Joe Biden began a disastrous withdrawal from Bagram Airfield in the middle of the night without alerting Afghan National Defense and Security Forces. As a direct result of the Biden Administration's reckless political stunt designed to claim victory on the 20th anniversary of September 11, 2001, our men and women in uniform were left without a defensible base of operations, allowing the Taliban to free thousands of bloodthirsty terrorists and criminals held captive at Bagram prison.

At exactly 5:36pm on August 26, 2021, a barbaric ISIS-K terrorist—one of the prisoners set free by the Taliban less than two months earlier—detonated a suicide bomb at a civilian gate of Hamid Karzai International Airport in Kabul, the main entry point for an evacuation operation. As a result, 13 brave American service members were killed, 45 were wounded, and more than 160 civilians were injured, resulting in the single deadliest day for United States forces in a decade.

In what will be remembered as one of the most shameful and heartbreaking moments in our Nation's collective memory, Joe Biden checked his watch—and time stood still—as a Sailor, Soldier, and 11 Marines returned home in flag-draped coffins, solemnly escorted by their brothers and sisters in arms. We will never forget the names of the 13 brave souls who shed their blood for our Nation: Staff Sergeant Darin T. Hoover, USMC; Sergeant Johanny Rosario Pichardo, USMC; Sergeant Nicole L. Gee, USMC; Corporal Hunter Lopez, USMC; Corporal Daegan W. Page, USMC; Corporal Humberto A. Sanchez, USMC; Lance Corporal David L. Espinoza, USMC; Lance Corporal Jared M. Schmitz, USMC; Lance Corporal Rylee J. McCollum, USMC; Lance Corporal Dylan R. Merola, USMC; Lance Corporal Kareem M. Nikoui, USMC; Petty Officer Third Class Maxton W. Soviak, USN; and Staff Sergeant Ryan C. Knauss, USA.

As Commander in Chief, I will never allow our military service members to be so betrayed, our friends to be so abandoned, and our credibility to be so destroyed.

To those who lost a son, daughter, brother, sister, husband, wife, or family member at Abbey Gate in 2021—we offer you our enduring love and our unwavering devotion. To those who horrifically suffered life-altering wounds—we extend our unending support and eternal gratitude for your unsung sacrifices. To those who served in Afghanistan, Iraq, Syria, and beyond—you should be tremendously proud of your service to our Nation and your devotion to preserving our freedoms.

The events of that day led to an unimaginable loss of human life and the single most embarrassing display of American foreign policy in the history of our country. In the wake of the attack, countless Americans and our Afghan allies were abandoned behind Taliban lines, 10 innocent civilians—including children—were killed in a feckless counterstrike ordered by President Biden, $85 billion worth of United States military equipment was surrendered to the enemy, and 20 years of American blood and treasure were utterly squandered. The weakness and incompetence that led to Abbey Gate lived on in the American memory as the moment our credibility was all but lost—until the clock struck noon on January 20, 2025.

On day one, my Administration sought to bring justice to the families of the Abbey Gate 13 by aggressively pursuing a foreign policy rooted in the commonsense principle of peace through strength. Just 43 days into my second term, on the night of March 4, 2025, during my Joint Address to the Congress, I announced that we apprehended the ISIS Jihadi responsible for the atrocity at the Kabul airport—who was at that moment being brought to the United States to face the swift sword of American justice. When America is strong, the world is safe, fewer conflicts erupt on the field of battle, and the lives of our men and women in uniform are cherished and protected.

As our Nation solemnly marks 4 years since the attack at Abbey Gate, we honor the memory of the 13 brave souls and every military service member to ever die in the line of duty—and we renew our resolve to protect American lives, defend American interests, and uphold American sovereignty.

NOW, THEREFORE, I, DONALD J. TRUMP, President of the United States of America, by virtue of the authority vested in me by the Constitution and the laws of the United States, do hereby proclaim August 26, 2025, as a day in commemoration of the 4th anniversary of the attack at Abbey Gate. I encourage all Americans to remember the heroism of the brave men and women who made the ultimate sacrifice for our country, and the Gold Star Families who carry on their proud legacy.

IN WITNESS WHEREOF, I have hereunto set my hand this twenty-fifth day of August, in the year of our Lord two thousand twenty-five, and of the Independence of the United States of America the two hundred and fiftieth.

[FR Doc. 2025-16599

Filed 8-27-25; 11:15 am]

Billing code 3395-F4-P